DEPARTMENT OF ENERGY

Federal Energy Regulatory Commission

Notice of Commissioner and Staff Attendance at the National Association of Regulatory Utility Commissioners 2012 Summer Committee Meetings

The Federal Energy Regulatory Commission (FERC or Commission) hereby gives notice that members of the Commission and/or Commission staff may attend the following meetings:

Gas and Electricity Interdependencies,July 24, 2012 (10:30 a.m.-1:15 p.m.),Hilton Portland and Executive Tower,921 SW 6th Avenue,Portland, OR 97204;

FERC/National Association of Regulatory Utility Commissioners Forum on Reliability and the Environment,July 25, 2012 (8:00 a.m.-12:00 p.m.),Hilton Portland and Executive Tower,921 SW 6th Avenue,Portland, OR 97204.

Further information may be found at http://summer.narucmeetings.org/agenda.cfm

The discussions at these meetings, which are open to the public, may address matters at issue in the following Commission proceedings:

Docket No. AD12-12-000, Coordination between Natural Gas and Electricity Markets.

Docket No. ER12-1178-001, PJM Interconnection, L.L.C.

Docket Nos. ER11-4081-001 and ER11-4081-002, Midwest Independent Transmission System Operator, Inc.

Dated: July 20, 2012.
Kimberly D. Bose,
Secretary.

[FR Doc. 2012-18439 Filed 7-27-12; 8:45 am]

BILLING CODE 6717-01-P